DEPARTMENT OF HEALTH AND HUMAN SERVICES

Office of Inspector General

Program Exclusions: May 2001

AGENCY: Office of Inspector General, HHS.

ACTION: Notice of program exclusions.

During the month of May 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ABRAMYAN, EDIK | 04/26/2000
BURBANK, CA
ACKLEY, PAULA IRENE | 06/20/2001
MARATHAN, FL
AHMED, KHALID | 06/20/2001
SUISUN CITY, CA
ANDERS, ROBIN MARIE | 06/20/2001
TACOMA, WA
ARTHRITIS & PAIN CTR, INC | 06/20/2001
LAKE PLACID, FL
ATIKAIN, PETROS M | 06/20/2001
TAFT, CA
ATTIA, NADER ANISZAKY | 06/20/2001
BROOKLYN, NY
CARR, PATRICIA | 06/20/2001
BROWNS MILLS, NJ
CASADA, KAREN R | 06/20/2001
SPRINGFIELD, MO
COMPUTER HEALTH SVCS OF DADE | 02/16/2000
TAMPA, FL
CORRIE, PAMELA H | 06/20/2001
COLEMAN, FL
CRAMPTON, MICHAEL W | 06/20/2001
JACKSONVILLE, AR
DEL VAL, TOMASA NANCY | 06/20/2001
MIAMI SPRING, FL
DELGADO, PEDRO | 06/20/2001
MIAMI, FL
DEMARIA, WILLIAM R JR | 07/12/2000
PALM BCH GARDENS, FL
DIAZ, REYNALDO | 06/20/2001
WATERBURY, CT
DIAZ-PELLOT, NORMA | 06/20/2001
PEMBERTON, NJ
DURST, LARRY | 06/20/2001
FORT DIX, NJ
DURST, SHELDON | 06/20/2001
MONTGOMERY, PA
ENEMUO, KENNETH | 06/20/2001
PINE BROOK, NJ
GARCIA, OMAR J | 06/20/2001
MIAMI, FL
GONZALEZ, BERNARDO | 06/20/2001
MIAMI, FL
GUSSMAN, MICHAEL | 06/20/2001
MARLTON, NJ
JENNINGS, DEBRA | 06/20/2001
TACOMA, WA
JORGENSEN, KELLY ROSS | 06/20/2001
MILL CREEK, WA
KALANI, GHANSHYAM | 06/20/2001
OTISVILLE, NY
KELL, MICHAEL J | 06/20/2001
ATLANTA, GA
KYLE, CAROL | 06/20/2001
MEYERSDALE, PA
LISS, IRA H | 06/20/2001
NEW PORT RICHEY, FL
MARTINEZ, LYDIA | 06/20/2001
DANBURY, CT
MCDONOUGH, SUSAN CAROL | 06/20/2001
O'FALLON, MO
MICHAEL'S PHARMACY, INC | 06/20/2001
NEW YORK, NY
MILLER, DEIRDRE T | 06/20/2001
WILLINGBORO, NJ
MUNGEN, JONETTA V | 06/20/2001
NEWARK, NJ
MUNSTERMAN, STEFANIE P K | 06/20/2001
TROY, KS
NACHAMIE, ALAN BARTON | 06/20/2001
BROOKLYN, NY
ORDOUBADI, NASSER | 06/20/2001
SHERIDAN, OR
ORTEGA, CHRISTINE | 06/20/2001
HONDO, TX
PATEL, SEJAL C | 06/20/2001
INDIANAPOLIS, IN
PFEIFER, SARAH JEAN | 06/20/2001
PUEBLO, CO
PICARD, ROBERT H | 06/20/2001
WARE, MA
PORTER, TAMARA L | 06/20/2001
GLENDALE, AZ
PUNALES, JESUS | 06/20/2001
HIALEAH GARDENS, FL
REDDICK, HARRIS JOHN | 06/20/2001
DETROIT, MI
ROBERTS, JULIE A | 06/20/2001
SPRINGFIELD, MO
SADATRAFIEI, AZAM ZARI | 06/20/2001
BOSTON, MA
SCHRAGER, KENNETH JOEL | 06/20/2001
OTISVILLE, NY
SHERRICK, CRYSTAL L | 06/20/2001
FREDERICKTOWN, MO
SHUSTER, LARRY B | 06/20/2001
PHILADELPHIA, PA
SIEGEL, ALAN | 06/20/2001
RYE, NY
SOYFER, ALEXANDER | 06/20/2001
WOODBRIDGE, NJ
SPUZA, MICHAEL P | 06/20/2001
ST PETERSBURG, FL
TRUJILLO, DIANE | 06/20/2001
COMMERCE CITY, CO
TRUJILLO-ALEN, CARIDAD | 06/20/2001
MIAMI, FL
TUCKER, SAMUEL J | 06/20/2001
DECATUR, GA
VALERA, FELICIA | 06/20/2001
MIAMI, FL
VILLOTA, CLARA | 06/20/2001
MIAMI, FL
VINING, DONNA BOLES | 06/20/2001
DANBURY, CT
WHITE, DOUGLAS R | 06/20/2001
ATLANTA, GA
FELONY CONVICTION FOR HEATH CARE FRAUD
MALADY, SUSAN | 06/20/2001
BLAIRSTOWN, NJ
MCCARGISH, MILDRED ANN | 06/20/2001
YUM, CO
STEVENSON, LISA ANN | 06/20/2001
DES MOINES, IA
WILTS, LAURA FAYE | 06/20/2001
WHITE, SD
FELONY CONTROL SUBSTANCE CONVICTION
ROLKO, ERICH SCOTT | 06/20/2001
RANCHO CUCAMONGA, CA
SONS, KAREN A | 06/20/2001
HOBART, IN
STEIN, MICHAEL P | 06/20/2001
RANDOLPH, NJ
UNANGST, JENNIFER L | 06/20/2001
WINOOSKI, VT
VOGEL, MARY ANN | 06/20/2001
LA MIRADA, CA
PATIENT ABUSE/NEGLECT CONVICTIONS
ALVAREZ, JESUS | 06/20/2001
ANAHEIM, CA
BROWN, ARTHUR LEE | 06/20/2001
LAS VEGAS, NV
CHEATHAM, JEFFREY | 06/20/2001
BUFFALO, NY
CHRISTMAN, LAURA LLYN | 06/20/2001
N POWDER, OR
CHRISTMAN, MARION BRUCE | 06/20/2001
NORTH POWDER, OR
CURE, PHYLLIS A | 06/20/2001
CLIFTON PARK, NY
KONYEASO, PATRICIA | 06/20/2001
RANDALLSTOWN, MD
KUHN, NANCY | 06/20/2001
ROCHESTER, NY
LONGCOR, JOSHUA CHRISTIAN | 06/20/2001
FT BRAGG, CA
MAJORS, ORVILLE LYNN | 06/20/2001
LINTON, IN
MANN, FRANCES | 06/20/2001
HENRIETTA, NY
MARSHALL, JAMES BRADNEY | 06/20/2001
SALT LAKE CITY, UT
MCCLINTON, YARKESHILA DEANN | 06/20/2001
PINEVILLE, LA
PETTIE, MARY LOUISE | 06/20/2001
TULSA, OK
RANDOLPH, MARY JO | 06/20/2001
MIAMI, OK
SHELTON, STEVEN HALEY | 06/20/2001
WESTMINSTER, CO
LICENSE REVOCATION/SUSPENSION/SURRENDER
ABDELHAMID, MANAL | 06/20/2001
GUTTENBERG, NJ
ADSON, MARTIN H | 06/20/2001
MINNEAPOLIS, MN
ALLEN, ELIZABETH A | 06/20/2001
EASTHAM, MA
ARNOLD, WENDY | 06/20/2001
HUMBLE, TX
AUGUSTINE, LINDA KAY | 06/20/2001
KITTANNING, PA
BARTH, THOMAS LESLIE | 06/20/2001
NEW BOSTON, TX
BASTIAN, TONYA LYNN ARNETTE | 06/20/2001
ENTERPRISE, AL
BEACH, CHRISTOPHER HUGH | 06/20/2001
FELTON, CA
BEAUDION, GWENDOLYN | 06/20/2001
ALEXANDRIA, LA
BEDARD, ANNE M | 06/20/2001
SALEM, MA
BELL, KIMBERLY F | 06/20/2001
ORTLEY BEACH, NJ
BENNETT, DELORIS M | 06/20/2001
NEW WAVERLY, TX
BONENFANT, LISA | 06/20/2001
SANTA CLARITA, CA
BOROM, ANGELIQUE DINKINS | 06/20/2001
MONTGOMERY, AL
BRAEMER, NICHOLAS G | 06/20/2001
PALOS VERDES ESTATES, CA
BROWNING, SALLY ROBINSON | 06/20/2001
ALLENTOWN, PA
BURK, LINDA HOLMES | 06/20/2001
WARREN, PA
BUTCHER, TOBY J | 06/20/2001
LUBBOCK, TX
CALIX, RAUL O | 06/20/2001
LOS ANGELES, CA
CAPOVILLA, JANET | 06/20/2001
LAS VEGAS, NV
CARLE, SUSAN MACGILL | 06/20/2001
LONG BEACH, CA
CARLSON-MCPADDEN, KAREN L | 06/20/2001
MONROE, CT
CARRIERE, SHEILA LYNN | 06/20/2001
VERNON, TX
CASTALDI, JACQUELINE M | 06/20/2001
DENVER, CO
CHENAULT, WYNOKA SUE | 06/20/2001
GONZALES, TX
CHRISTENSEN, DENNIS W | 06/20/2001
SAN FRANCISCO, CA
COBB, CAROL M | 06/20/2001
CHATTANOOGA, TN
COMER, JULIE DIANE | 06/20/2001
WINSLOW, IN
CORLEW, ANN MARIE | 06/20/2001
BALLSTON SPA, NY
CUPO, DAWN | 06/20/2001
FARMINGDALE, NJ
DEHOTMAN, CHRISTIE LEIGH | 06/20/2001
EASTABOGA, AL
DIFEDERICO, WILLIAM M | 06/20/2001
STRATFORD, CT
DOUNEL, SAID | 06/20/2001
FOREST HILLS, NY
DURAN, LISA | 06/20/2001
HENDERSON, NV
DURANT, JOHN | 06/20/2001
ERIE, PA
DYER, JEANNINE M | 06/20/2001
ORDWAY, CO
ELEY, ELMER L | 06/20/2001
GUNTERSVILLE, AL
EMERSON, GARY | 06/20/2001
TUCSON, AZ
EUDY, ALECIA N | 06/20/2001
SILOAM SPRINGS, AR
FONTANA, TAMMY | 06/20/2001
WEST MONROE, LA
FREEMAN, STACY RHONE | 06/20/2001
WILLIAMSPORT, PA
FUENTECILLA, RUEL FORONDA | 06/20/2001
NORWALK, CA
GARNER, MARLO BURNETT | 06/20/2001
CHICAGO, IL
GAUL, GERALYN M | 06/20/2001
NEW HAMPTON, IA
GIBSON, VALENCIA BARNES | 06/20/2001
HOUSTON, TX
GODSELL-STYTZ, GAYL MARIE | 06/20/2001
BEAVERCREEK, OH
GORDON, STEVEN | 06/20/2001
AUSTIN, TX
GUAY, DEREK G | 06/20/2001
FLORENCE, SC
GUIDRY, ANN | 06/20/2001
OPELOUSAS, LA
GUNTER, FELECIA D | 06/20/2001
CHARLESTON, SC
GWAK, CHRISTINA SOOK-UN | 06/20/2001
REDLANDS, CA
HAMBLIN, DAVID LEE | 06/20/2001
PROVO, UT
HAMMOND, GINA RENE | 06/20/2001
E MOLINE, IL
HARRIS, ERIQ T | 06/20/2001
CHICAGO, IL
HARRIS, CAROL | 06/20/2001
LUZERNE, PA
HAYS, MARGARET | 06/20/2001
RENO, NV
HENTON, ERNEST B JR | 06/20/2001
CHICAGO, IL
HILL, DEBRA A | 06/20/2001
NEWPORT NEWS, VA
HINER, JAN O ERVIN | 06/20/2001
OMAHA, NE
HOLMES, ROBERT LEE JR | 06/20/2001
SAN DIEGO, CA
HOWARD, ROBIN ANN | 06/20/2001
TRENTON, NJ
HUTTO, CHARLOTTE J JOHNSON | 06/20/2001
PERRYVILLE, AR
IZBICKI, LORI J | 06/20/2001
ERIE, PA
JAMISON, ROBERT W | 06/20/2001
CHERRY HILL, NJ
JANFLONE, MICHAEL F | 06/20/2001
PITTSBURGH, PA
JEFFRIES, COMIKA L | 06/20/2001
CHARLOTTSVILLE, VA
JENSEN, GARYE SHAWN | 06/20/2001
APISON, TN
JOHNSON, SHINITIA T | 06/20/2001
INGLEWOOD, CA
JOHNSON, JULIE ANN | 06/20/2001
MANTUA, NJ
JOHNSTON, MARTHA NELSON | 06/20/2001
SPRUCE PINE, NC
JONES, PATRICIA FAYE CARDWELL | 06/20/2001
OKLAHOMA CITY, OK
JONES, JAMES LEE | 06/20/2001
JONESBORO, IL
JUHL, THOMAS RICHARD | 06/20/2001
SAN FRANCISCO, CA
KATAN, SYLVIA LYNN | 06/20/2001
WINNIE, TX
KEELEN, SUSAN | 06/20/2001
FLEMINGTON, NJ
KERSHEY, LAURA HRUBY | 06/20/2001
BELLE VERNON, PA
KIBBE, TINA M | 06/20/2001
NEDERLAND, TX
KILCHER, CHERYL THOMAS | 06/20/2001
PHILADELPHIA, PA
KING, HAZEL BERNADETTE | 06/20/2001
HUMBLE, TX
KINNEY, BRANDY LYNN | 06/20/2001
MUSKOGEE, OK
KOETSCH, BETSY L | 06/20/2001
STRATFORD, CT
KOTARA, ANISSA FAYE | 06/20/2001
CUERO, TX
LAW, CANDICE LEE | 06/20/2001
CRETE, IL
LEKSEN, PAUL B | 06/20/2001
RIALTO, CA
LEWIS, DAVID KEITH | 06/20/2001
FRUITLAND, ID
LEWIS, GLORIA S | 06/20/2001
EVINGTON, VA
LEWIS, STEPHEN R | 06/20/2001
SANTA MONICA, CA
LITTLE, DOUGLAS JONATHAN | 06/20/2001
SANFORD, NC
LUONG, ANHUE THI | 06/20/2001
TUSTIN, CA
MACAULEY, SUSAN | 06/20/2001
CARSON CITY, NV
MACK, MICHAEL LESLIE | 06/20/2001
CHICAGO, IL
MARTINEZ, MARTIN J | 06/20/2001
SALT LAKE CITY, UT
MAXWELL, DEBORAH HANLON | 06/20/2001
WATERTOWN, WI
MAYHEW, TERESA A L | 06/20/2001
KNOXVILLE, TN
MAZZARELLA, WILLIAM H II | 06/20/2001
SAN FRANCISCO, CA
MCCOLGAN, PETER | 06/20/2001
TANNERSVILLE, PA
MCGOWAN, LAURA ANN | 06/20/2001
TYLER, TX
MEEMKEN, SANDRA LEE | 06/20/2001
ST PAUL, MN
MESSANA, BENEDICT JOSEPH | 06/20/2001
MILL VALLEY, CA
MINNOW, MARY | 06/20/2001
SAYREVILLE, NJ
MORRAY, RICHARD MERYL | 06/20/2001
EDWARDSVILLE, IL
MOSELEY, WILLIAM E III | 06/20/2001
SPRINGFIELD, TN
MULLOZZI, ANTHONY D JR | 06/20/2001
LAS VEGAS, NV
MUNDT, JANICE L | 06/20/2001
LINDALE, TX
MURPHY, DENISE DINO | 06/20/2001
FAIRPORT, NY
MURRAY, DONNA M | 06/20/2001
DOWNINGTOWN, PA
NELSON, SIGNA RAMONA HOBSON | 06/20/2001
SAMANTHA, AL
NORTHAM, BEN | 06/20/2001
RICHARDSON, TX
PATEL, RAMESH SHANKER BHAI | 06/20/2001
OLD BRIDGE, NJ
PEARCE, GAIL BROWN | 06/20/2001
MOORESVILLE, NC
PERESS, JAMILE A | 06/20/2001
GREAT NECK, NY
PERNA, DANA | 06/20/2001
KENMORE, NY
PERNO, MARY MOLESKI | 06/20/2001
MUNCY, PA
PERRY, TIMOTHY ALLEN | 06/20/2001
SANTA ROSA, CA
PIRNIA, ABDOLVAHAB STEVEN | 06/20/2001
TEMECULA, CA
QURTOM, HELMY ABDUL FATTAH | 06/20/2001
BELTSVILLE, MD
RANCK, SUSAN B | 06/20/2001
LANCASTER, PA
REILLY, ALAN D | 06/20/2001
FREEPORT, ME
RHUE, KEVIN | 06/20/2001
SAN MARCOS, TX
RIEBSCHLAEGER, TRACY DAWN | 06/20/2001
WATAUGA, TX
ROBINSON, CHRISTINE M | 06/20/2001
DES MOINES, IA
RODGERS, MELISSA LYNNE | 06/20/2001
LAGO VISTA, TX
ROMERO, ORLANDO JR | 06/20/2001
VICTORVILLE, CA
ROSENBERGER, DONNA | 06/20/2001
APO, AE, NV
ROSS, PAMELA | 06/20/2001
LAS VEGAS, NV
ROSSITER, PAMELA NICOLE | 06/20/2001
LA PRAIRIE, IL
RYAN, DAVID LEE | 06/20/2001
W VALLEY CITY, UT
SALBERG, TONYA RAE | 06/20/2001
MINNEAPOLIS, MN
SELDERS, MONET ANDREA | 06/20/2001
HOUSTON, TX
SHOEMAKER, JILL I | 06/20/2001
SPRINGVALE, ME
SILVA, JOYCEANN | 06/20/2001
SOMERVILLE, MA
SIX, BRENDA E | 06/20/2001
LAS ANIMAS, CO
SMITH, W JAMES | 06/20/2001
PALM HARBOR, FL
STARKEY, BRIAN | 06/20/2001
LAS VEGAS, NV
STIENTJES, KATHERINE K | 06/20/2001
LOMBARD, IL
STORMANN, LORRAINE F | 06/20/2001
BANGOR, ME
STOUP, LOUISA | 06/20/2001
CANON CITY, CO
STOVER, CHERYL MERRIE | 06/20/2001
BETHALTO, IL
STROYECK, CAROL A | 06/20/2001
PANA, IL
TATE, YONOUS | 06/20/2001
MAYWOOD, IL
THOMPSON, PAULA RENEE | 06/20/2001
MARSEILLES, IL
THOMPSON, CATHERINE S | 06/20/2001
BAY SHORE, NY
THORNE, ALISSA LYNN | 06/20/2001
AVON, IL
THORP, CHARLES FREDRICK | 06/20/2001
ST PETERSBURG, FL
TINSLEY, MARY ANN | 06/20/2001
FORT WORTH, TX
TIPTON, JANE MARIE | 06/20/2001
LUCEDALE, MS
TONN, PATTY LOU | 06/20/2001
SAN ANGELO, TX
TRACY, TERESA M | 06/20/2001
W WARWICK, RI
VALENTE, SHERRY A | 06/20/2001
HIRAM, ME
VERHUSEN, DEBORAH KAY | 06/20/2001
DECATUR, IL
VICKREY, ARLETTE ANN | 06/20/2001
MOLINE, IL
VIGIL, DANIEL | 06/20/2001
DENVER, CO
WALKER, PATRICIA | 06/20/2001
CHARLESTON, SC
WALLACE, CONNIE SUE | 06/20/2001
SAN ANGELO, TX
WHISENAND, MARY BETH | 06/20/2001
DIXON, IL
WHITING, BONNIE DENISE | 06/20/2001
ARLINGTON, TX
WILCOX, LISA GAIL | 06/20/2001
DEKALB, IL
WILLIAMS, DARLENE E | 06/20/2001
ETOWAH, TN
WILLIAMS, VIRGINIA | 06/20/2001
EDMONDS, WA
WILLIAMSON, LESLIE CHARONE | 06/20/2001
ARAB, AL
WILSON, ANNE M | 06/20/2001
MT PLEASANT, SC
WOLFE, PHYLLIS I | 06/20/2001
BELGRADE, MT
WONS, PAUL V | 06/20/2001
PHILADELPHIA, PA
WOODEN, TERRY LEE | 06/20/2001
WINSTON SALEM, NC
WYATT, DEBBIE ANN | 06/20/2001
LA MESA, CA
YOUNG, KAREN LYNN | 06/20/2001
FULTONDALE, AL
FEDERAL/STATE EXCLUSION/SUSPENSION
BUTLER, BETH LORENE | 06/20/2001
ALISO VIEJO, CA
CEVALLOS, ANGELA KAY | 06/20/2001
BIG SPRING, TX
GUINTO, NATIVIDAD | 06/20/2001
CARSON, CA
FRAUD/KICKBACKS
GUILLERMO, ROMEO D | 03/24/2000
RICHARDSON, TX
JONES, A B | 04/13/2000
DALLAS, TX
KOTHEIMER, GREGORY C | 09/21/2000
JACKSONVILLE, TX
MABERRY, STEPHEN F | 04/14/2000
FLOWER MOUND, TX
MABERRY, C LOUISE | 04/12/2000
ORANGE, TX
MAY, JAMES GARY | 02/16/2000
TAMPA, FL
MENKE, WILLIAM J | 10/20/2000
GULF BREEZE, FL
REVIS, TERRANCE FRANKLIN | 03/15/1999
SAPULPA, OK
SPENCER, RODERICK | 12/13/2000
YORBA LINDA, CA
YAHOLA, ROMAN | 03/15/1999
OKEMAH, OK
OWNED/CONTROLLED BY CONVICTED EXCLUDED
A FAMILY CARE CENTER | 06/20/2001
COVINGTON, GA
LA COVADONGA MEDICAL CENTER | 06/20/2001
MIAMI, FL
MICHAEL'S PHARMACY, INC | 06/20/2001
BROOKLYN, NY
PRIVATE CLINIC LABS | 06/20/2001
ATLANTA, GA
SPEECH & LANGUAGE ASSOC, INC | 06/20/2001
CINCINNATI, OH
DEFAULT ON HEAL LOAN
ALVARADO, ENRIQUE | 06/20/2001
CEDAR HILL, TX
AULD, ROBIN | 06/20/2001
MCMURRAY, PA
BAILEY, GRIFFIN B JR | 06/20/2001
HANFORD, CA
BEIL, FLOYD M | 06/20/2001
BOYNTON BCH, FL
BIRDSELL, ESTHER V | 06/20/2001
RANCHO PALOS VERDES, CA
BIRNEY-DOBOGAI, REBECCA J | 06/20/2001
APPLETON, WI
BLEHL, THOMAS A | 06/20/2001
ORLANDO, FL
BOURLAND, CHARLES | 06/20/2001
HARBOR, OR
BUNDRANT, BRADLY | 06/20/2001
FLORESVILLE, TX
BURKE, ANDREA MARIE | 04/20/2001
HOUSTON, TX
CAMINITI, GREGORY N | 06/20/2001
TAMPA, FL
CAMPBELL, THOMAS N | 06/20/2001
BEAUMONT, TX
CARMAN, TIMOTHY P | 05/17/2001
LA JOLLA, CA
CHAPMAN, WILLIAM CHARLES JR | 06/20/2001
SAN ANTONIO, TX
CHIGER, BYRON J | 06/20/2001
ACWORTH, GA
CLARK, GARTH A | 06/20/2001
HUMBLE, TX
COTA, CHRISTOPHER T | 06/20/2001
GRASS VALLEY, CA
CREA, JOSE | 06/20/2001
WAPPINGERS FALLS, NY
CROMWELL, YVETTE D | 06/20/2001
LITTLETON, CO
DEASY, MARC A | 06/20/2001
WYNNEWOOD, PA
DELEONARDIS, MICHAEL S | 06/20/2001
HOUSTON, TX
DEMOSS, KATHLEEN M | 06/20/2001
FLEMINGTON, NJ
DENNIS-KIMBROUGH, KHRISTIE M K | 06/20/2001
PITTSBURGH, PA
DIKENGIL, MEHMET S | 06/20/2001
EDGEWATER, NJ
DUBEL, DAVID A | 06/20/2001
GREENVILLE, NC
DURKOP, DAVID A | 06/20/2001
HOUSTON, TX
DWELLY, BRUCE E | 06/20/2001
FAIR OAKS, CA
ERICKSON, PATRICK F | 06/20/2001
NORTH BRANCH, MN
FIELDS, JESSICA A | 06/20/2001
NEW YORK, NY
FLYNN, TIMOTHY G | 06/20/2001
KENT, WA
GILLESPIE, JON B | 06/20/2001
KENNEBUNK, ME
GIVARGIS, VLADMIR | 06/20/2001
GLENDALE, CA
GRIFFIN, AARON L | 06/20/2001
ALTA LOMA, CA
GUBNITSKY, MICHAEL | 06/20/2001
COCONUT CREEK, FL
HANE, GRACE S | 06/20/2001
SANTA ANA, CA
HENDRICK, DENEEN M | 06/20/2001
MARYVILLE, TN
HIGGWE, GOLDEN G | 06/20/2001
DETROIT, MI
HIGHT, GREGORY E | 06/20/2001
GRASS VALLEY, CA
JAMES, TYSHAUN M | 06/20/2001
PORT WASHINGTON, NY
KABISCH, THOMAS F | 06/20/2001
ANN ARBOR, MI
KUNA, TIMOTHY | 06/20/2001
MADISON HGTS, MI
MOSELY, LEE O JR | 06/20/2001
HOUSTON, TX
ODETTE, CAROLINE K | 05/03/2001
HOUSTON, TX
RODRIGUEZ, MARIA J | 06/20/2001
SAN GERMAN, PR
STEPHENS, GREGORY W | 06/20/2001
HOUSTON, TX
STUART, CLAUDETTE | 06/20/2001
HOUSTON, TX
TAHIJA, MARK J | 06/20/2001
MINNEAPOLIS, MN
TOWNSEND, LEO W | 04/20/2001
ELK GROVE, CA
TYSON, YVONNE A | 06/20/2001
LONG BEACH, CA
VINCZE, MARGARET | 06/20/2001
OLD ORCHARD BCH, ME
WALKER, STEVE L | 06/20/2001
NASHVILLE, TN
WASHINGTON, PATRICIA L | 06/20/2001
TORRANCE, CA
WIMBLY, TIMOTHY TYRONE | 06/20/2001
OKLAHOMA CITY, OK
WISEMAN-STRANG, JACQUELINE D | 06/20/2001
COLUMBIA, MD

Dated: May 4, 2000.
Calvin Anderson, Jr.,
Director, Health Care Administrative Sanctions, Office of Inspector General.

[FR Doc. 01-14885 Filed 6-12-01; 8:45 am]

BILLING CODE 4150-04-P